DEPARTMENT OF HOUSING AND URBAN DEVELOPMENT

[Docket No. FR-6221-N-01]

Availability of HUD's Fiscal Year 2018 Service Contract Inventory

AGENCY: Office of the Chief Procurement Officer, HUD.

ACTION: Notice.

SUMMARY: This notice advises of the availability to the public of service contracts awarded by HUD in Fiscal Year (FY) 2018.

FOR FURTHER INFORMATION CONTACT: Dr. Akinsola A. Ajayi, Assistant Chief Procurement Officer, Office of Policy, Systems and Risk Management, Office of the Chief Procurement Officer, Department of Housing and Urban Development, 451 7th Street SW, Washington, DC 20410; telephone number 202-402-6728 (this is not a toll-free number) and fax number 202-708-8912. Persons with hearing or speech impairments may access Mr. Lawrence E. Chambers telephone number via TTY by calling the toll-free Federal Relay Service at 800-877-8339.

SUPPLEMENTARY INFORMATION:

In accordance with section 743 of Division C of the Consolidated Appropriations Act of 2010 (Pub. L. 111-117, approved December 16, 2009, 123 Stat. 3034, at 123 Stat. 3216), HUD is publishing this notice to advise the public of service contracts inventories that were awarded in FY 2018. The inventories are organized by function and are reviewed by HUD to better understand how contracted services are used to support HUD's primary mission, to insure HUD maintains an adequate workforce for operations and to research whether contractors were performing inherently governmental functions.

The inventory was developed in accordance with guidance issued on November 5, 2010 by the Office of Management and Budget's Office Federal Procurement Policy (OFPP). OFPP's guidance is available at https://obamawhitehouse.archives.gov/sites/default/files/omb/procurement/memo/service-contract-inventories-guidance-11052010.pdf.

HUD has posted its inventory and a summary of the inventory on the Department of Housing and Urban Development's homepage at the following link: http://portal.hud.gov/hudportal/HUD?src=/program_offices/cpo/sci.

Dated: June 24, 2020.
Akinsola A. Ajayi,
Assistant Chief Procurement Officer.

[FR Doc. 2020-13932 Filed 6-26-20; 8:45 am]

BILLING CODE 4210-67-P